ENVIRONMENTAL PROTECTION AGENCY

[FRL OP-OFA-023]

Environmental Impact Statements; Notice of Availability

Responsible Agency: Office of Federal Activities, General Information 202-564-5632 or https://www.epa.gov/nepa.

Weekly receipt of Environmental Impact Statements (EIS)

Filed June 17, 2022 10 a.m. EST Through June 27, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220086, Draft Supplement, NMFS, WA, The Makah Tribe Request to Hunt Gray Whales, Comment Period Ends: 08/15/2022, Contact: Grace Ferrara 206-526-6172.

EIS No. 20220087, Final, FERC, LA, MP66-69 Compression Relocation and Modification Amendment MP33 Compression Station Modification Amendment Project, Review Period Ends: 08/01/2022, Contact: Office of External Affairs 866-208-3372.

EIS No. 20220088, Draft, USAF, WY, Ground Based Strategic Deterrent Deployment and Minuteman III Decommissioning and Disposal, Comment Period Ends: 08/15/2022, Contact: Carla Pampe 318-456-7844.

EIS No. 20220089, Final, USACE, SC, Charleston Peninsula Coastal Storm Risk Management, Review Period Ends: 08/01/2022, Contact: Nancy Parrish 843-329-8050.

EIS No. 20220090, Draft Supplement, DOE, AK, Alaska LNG Project, Comment Period Ends: 08/15/2022, Contact: Mark Lusk 304-285-4145.

Amended Notice

EIS No. 20190132, Draft Supplement, USFS, MT, WITHDRAWN—Montanore Evaluation Project, Comment Period Ends: 08/08/2019, Contact: Craig Towery 406-293-6211.

Revision to FR Notice Published 06/21/2019; Officially Withdrawn per request of the submitting agency.

Dated: June 27, 2022.
Cindy S. Barger,
Director, NEPA Compliance Division, Office of Federal Activities.

[FR Doc. 2022-14107 Filed 6-30-22; 8:45 am]

BILLING CODE 6560-50-P